ENVIRONMENTAL PROTECTION AGENCY

40 CFR Part 52

[EPA-R06-OAR-2015-0647; FRL-9941-21-Region 6]

Approval and Promulgation of Implementation Plans; Arkansas; Crittenden County Base Year Emission Inventory

Correction

In rule document 2016-00559 beginning on page 1884 in the issue of Thursday, January 14, 2016, make the following correction:

On page 1885, in the first column, in the 14th line, “March 14, 2016” should read “February 16, 2016”.

[FR Doc. C1-2016-00559 Filed 1-21-16; 8:45 am]

BILLING CODE 1505-01-D